ENVIRONMENTAL PROTECTION AGENCY

40 CFR Part 52

[EPA-R04-OAR-2012-0013(b); FRL-9732-6]

Approval and Promulgation of Implementation Plans; North Carolina: Approval of Rocky Mount Supplemental Motor Vehicle Emissions Budget Update

AGENCY: Environmental Protection Agency (EPA).

ACTION: Proposed rule.

SUMMARY: EPA is proposing to approve a revision to the North Carolina State Implementation Plan (SIP), submitted to EPA on February 7, 2011, by the State of North Carolina, through the North Carolina Department of Environment and Natural Resources, Division of Air Quality. North Carolina's February 7, 2011, submission supplements the original redesignation request and maintenance plan for Rocky Mount 1997 8-hour ozone area submitted on June 19, 2006, and approved by EPA on November 6, 2006. The Rocky Mount 1997 8-hour ozone area is comprised of Edgecombe and Nash Counties in North Carolina. The February 7, 2011, revision proposes to increase the safety margin allocated to motor vehicle emissions budgets to account for changes in the emissions model and vehicle miles traveled projection model. EPA is proposing approval of this SIP revision pursuant to section 110 of the Clean Air Act. North Carolina's SIP revision meets all the statutory and regulatory requirements, and is consistent with EPA's guidance.

DATES: Written comments must be received on or before October 29, 2012.

ADDRESSES: Submit your comments, identified by Docket ID No. EPA-R04-OAR-2012-0013 by one of the following methods:

1. www.regulations.gov: Follow the on-line instructions for submitting comments.

2. Email: R4-RDS@epa.gov.

3. Fax: (404) 562-9019.

4. Mail: “EPA-R04-OAR-2012-0013,” Regulatory Development Section, Air Planning Branch, Air, Pesticides and Toxics Management Division, U.S. Environmental Protection Agency, Region 4, 61 Forsyth Street SW., Atlanta, Georgia 30303-8960.

5. Hand Delivery or Courier: Lynorae Benjamin, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: Zuri Farngalo, Regulatory Development Section, Air Planning Branch, Air, Pesticides and Toxics Management Division, U.S. Environmental Protection Agency, Region 4, 61 Forsyth Street SW., Atlanta, Georgia 30303-8960. Zuri Farngalo may be reached by phone at (404) 562-9152 or by electronic mail address farngalo.zuri@epa.gov.

SUPPLEMENTARY INFORMATION: On March 12, 2008, EPA issued a revised ozone National Ambient Air Quality Standards (NAAQS). See 73 FR 16436. The current action, however, is being taken to address requirements under the 1997 8-hour ozone NAAQS. Requirements for the Rocky Mount Area under the 2008 NAAQS will be addressed in the future.

For additional information regarding today's action see the direct final rule which is published in the Rules Section of this Federal Register. Through that direct final rule, EPA is approving the State's implementation plan revision without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

Dated: September 11, 2012.
A. Stanley Meiburg,
Acting Regional Administrator, Region 4.

[FR Doc. 2012-23717 Filed 9-26-12; 8:45 am]

BILLING CODE 6560-50-P